DEPARTMENT OF HOMELAND SECURITY

U.S. Customs and Border Protection

Notice of Availability of the Final Programmatic Environmental Assessment and Finding of No Significant Impact for the Deployment and Operation of Low Energy X-Ray Inspection Systems at U.S. Customs and Border Protection Operational Areas

AGENCY: U.S. Customs and Border Protection, Department of Homeland Security.

ACTION: Notice of availability.

SUMMARY: U.S. Customs and Border Protection (CBP) announces that a final Programmatic Environmental Assessment (PEA) and a Finding of No Significant Impact (FONSI) for Low Energy X-Ray Inspection Systems (LEXRIS) at CBP operational areas have been prepared and are available for public review. The final PEA documents a review of the potential environmental impacts from the deployment and use of LEXRIS at CBP operational areas throughout the country. Based on the final PEA, a determination was made that the proposed action will not significantly affect the quality of the human environment and a FONSI was issued. As a result, a Programmatic Environmental Impact Statement (PEIS) is not required.

DATES: The Final PEA and FONSI are available for review through December 13, 2012.

ADDRESSES: Copies of the final PEA AND FONSI may be obtained by accessing the following Internet addresses: http://ecso.swf.usace.army.mil/Pages/Publicreview.cfm or www.dhs.gov/nepa, or by sending a request to David Duncan of CBP by telephone (202-344-1527), by fax (202-344-1418), by email to david.c.duncan@dhs.gov or by writing to: CBP, Attn: David Duncan, 1300 Pennsylvania Avenue NW., Suite 1575, Washington, DC 20229.

FOR FURTHER INFORMATION CONTACT: Antoinette DiVittorio, Environmental and Energy Division, U.S. Customs and Border Protection, telephone (202) 344-3131.

SUPPLEMENTARY INFORMATION:

LEXRIS

LEXRIS is a low energy x-ray inspection system. The purpose of deploying and operating LEXRIS is to non-intrusively scan vehicles for the presence of contraband, including weapons of mass destruction, explosives, and illicit drugs. The use of LEXRIS at, for example U.S. ports of entry, directly supports CBP's mission of securing the U.S. borders and homeland from terrorists and other threats while simultaneously facilitating legitimate trade and travel by assisting CBP personnel in preventing contraband, including illegal drugs and terrorist weapons, from entering the United States.

Two different LEXRIS systems are available. One system is mobile, mounted on a truck or van type platform and will be used at CBP operational areas. The system can be driven alongside a parked vehicle in a controlled area and will scan the vehicle as it drives by. Before the vehicle is scanned, the driver and passenger(s) will exit the vehicle and be escorted outside the controlled area. The other system is a stationary, portal configuration that will be installed along an existing traffic lane. Vehicles will be scanned as they are driven through the portal. Occupants of the vehicle will have the option of remaining in the vehicle while the driver drives it through the portal or exiting the vehicle and having CBP personnel drive it through the portal. Examples of CBP operational areas include, but are not limited to, ports of entry, CBP checkpoints, and locations of events designated as national special security events.

LEXRIS is needed to fill a unique capability to detect objects that are not effectively visualized by other non-intrusive inspection technologies currently used by CBP. LEXRIS gives a clear image of objects in the vehicle, including objects that may be hidden in fenders, tires, trunks, gas tanks, and under hoods. LEXRIS provides CBP personnel with information about what may be encountered during a manual search and, in some cases, will eliminate the need for CBP personnel to manually enter vehicles to search for contraband. As a result, LEXRIS will increase the safety of CBP personnel.

The NEPA Process

The National Environmental Policy Act of 1969 (NEPA) (42 U.S.C. 4321 et seq.) requires an agency to evaluate the environmental implications of any proposed major action that could significantly affect the quality of the human environment. Generally, to meet the NEPA requirements, an agency prepares an Environmental Assessment (EA) to determine whether a more thorough analysis of the environmental implications is necessary. If such an analysis is necessary, the agency will produce an Environmental Impact Statement (EIS). If additional analysis is not necessary, the agency will issue a Finding of No Significant Impact (FONSI). A Programmatic Environmental Assessment (PEA) is an EA that evaluates a major action on a broad, programmatic basis. Environmental evaluations at specific project locations are conducted later.

LEXRIS PEA

On January 18, 2012, CBP published a notice in the Federal Register (77 FR 2562) entitled: “Notice of Availability of the Draft Programmatic Environmental Assessment for the Deployment and Operation of Low Energy X-Ray Inspection Systems at U.S. Customs and Border Protection Operational Areas.” This notice announced that a draft PEA concerning LEXRIS had been prepared and made available to the public in accordance with NEPA, the Council on Environmental Quality Regulations for Implementing the NEPA (40 CFR parts 1500-1508), and Department of Homeland Security Directive 023-01, Environmental Planning Program (April 19, 2006). The draft PEA addressed the potential effects on resources present at CBP operational areas, including: Climate, soils, water quality, air quality, vegetation, wildlife, noise, infrastructure, aesthetics, and radiological health and safety. The notice informed the public on how to obtain a copy of the draft PEA and requested comments from the public on the draft PEA. The draft was made available for a 30 day public comment period, beginning on the date of the publication of the notice. The comment period ended on February 17, 2012. Two comments were received.

CBP has now prepared the final PEA addressing the potential effects on resources for the deployment and operation of LEXRIS at CBP operational areas. The comments received on the draft PEA have been reviewed and are addressed in the final PEA. On the basis of the final PEA, CBP determined that the deployment and operation of LEXRIS will have no significant impact on human health or the environment and that preparation of a PEIS is not necessary. A FONSI was issued on April 10, 2012. This document announces that the final PEA and the FONSI for LEXRIS can be reviewed by the public. The environmental implications for individual CBP operational areas will be considered as LEXRIS is deployed.

Dated: October 25, 2012.
Karl H. Calvo,
Executive Director, Facilities Management and Engineering, Office of Administration, U.S. Customs and Border Protection.

[FR Doc. 2012-27555 Filed 11-9-12; 8:45 am]

BILLING CODE 9111-14-P